DEPARTMENT OF LABOR

Employment and Training Administration

Proposed Information Collection Request Submitted for Public Comment and Recommendations; Data Collection and Reporting for Workforce Investment Act Title 1B Programs

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Employment and Training Administration (ETA) is soliciting comments on the revised reporting requirements for the Workforce Investment Act (WIA) Management Information and Reporting System. These changes are necessary to include data elements necessary for tracking state progress against a set of common performance measures beginning July 1, 2005.

DATES: Submit comments on or before September 12, 2005.

ADDRESSES: Send comments to: Dr. Esther R. Johnson, Administrator, Performance and Technology Office, Employment and Training Administration, U.S. Department of Labor, 200 Constitution Avenue NW., Room S-5206, Washington, DC 20210; telephone: (202) 693-3420 (this is not a toll-free number); fax: (202) 693-3490; e-mail: ETAperforms@dol.gov.

FOR FURTHER INFORMATION CONTACT: Ms. Karen A. Staha, Performance and Technology Office, Employment and Training Administration, U.S. Department of Labor, 200 Constitution Avenue NW., Room S-5206, Washington, DC 20210; telephone: (202) 693-3420 (this is not a toll-free number); fax: (202) 693-3490; e-mail: ETAperforms@dol.gov.

Copies of the Paperwork Reduction Act Submission Package may be obtained directly at the Web site: http://www.doleta.gov/performance/guidance/ombcontrolnumber.cfm.

SUPPLEMENTARY INFORMATION:

I. Background

Each state administering a grant under the WIA adult, dislocated worker, and youth programs is required to submit quarterly (ETA 9090) and annual (ETA 9091) reports containing information related to levels of participation and performance outcomes for each program. In addition, each state submits a file of individual records on all participants who exit the programs, formally called the Workforce Investment Act Title I-B Standardized Record Data (WIASRD). These participant records are submitted once a year based on a July-to-June program period.

In 2001, under the President's Management Agenda, the Office of Management and Budget (OMB) and other Federal agencies developed a set of common performance measures to be applied to certain Federally-funded employment and training programs with similar strategic goals. As part of this initiative, ETA initially issued Training and Employment Guidance Letter (TEGL) 15-03 and has more recently issued TEGL 28-04, Common Measures Policy, which rescinded TEGL 15-03 and reflected updates to the policy.

The value of implementing a set of common performance measures is the ability to describe in a similar manner the core purposes of the workforce system—how many people found jobs; did they keep their jobs; and what were their earnings. Multiple sets of performance measures have burdened states and grantees as they are required to report performance outcomes based on varying definitions and methodologies. By minimizing the different reporting and performance requirements, implementing a set of common performance measures can facilitate the integration of service delivery, reduce barriers to cooperation among programs, and enhance the ability to assess the effectiveness and impact of the workforce investment system, including the performance of the system in serving individuals facing significant barriers to employment.

The common performance measures are an integral part of ETA's performance accountability system, and ETA will continue to collect from grantees the data on program activities, participants, and outcomes that are necessary for program management and to convey full and accurate information on the performance of workforce programs to policymakers and stakeholders.

This modification to the WIA Management Information and Reporting System identifies a minimum level of information collection that is necessary to comply with Equal Opportunity requirements, holds states appropriately accountable for the Federal funds they receive, assesses progress against the common performance measures, and allows the Department to fulfill its oversight and management responsibilities.

The Employment and Training Administration is proposing similar changes to the reporting requirements for labor exchange programs funded under the Wagner-Peyser Act and by the Veterans' Employment and Training Service and the Trade Adjustment Assistance program. Please note that ETA will seek comments regarding changes to the information collection for these programs in separate Federal Register notices.

The WIA performance accountability system, authorized by section 136 of WIA, establishes a set of performance measures, and states report outcomes against these measures on a quarterly and annual basis. States establish negotiated levels for each of the measures, and these results are used by ETA for various purposes, including budget justifications, program reviews, and determination of exceeding performance or performance failure. These performance measures will continue to comprise the WIA performance accountability system.

Adult Performance Measures

The following three common performance measures apply to the WIA adult and dislocated worker programs:

• Entered Employment

• Retention

• Earnings Increase.

For the WIA adult and dislocated worker programs, the common performance measures will be incorporated into the WIA performance accountability system by adjusting the methodology for calculating the results. (The approach for the WIA youth program is different, and is discussed later in this notice.) The ETA proposes to implement changes to WIA reporting requirements beginning on July 1, 2005 (Program Year 2005) to be able to calculate the adult common measures for the WIA programs. Specific changes to the definitions include:

• The measurement period for employment retention measure will now include both the second and third quarters following the quarter of exit.

• States will now be required to calculate and report on six-months' pre-to post-program earnings for dislocated workers using the same methodology as the current WIA Adult earnings increase measure. The outcome will be expressed as a dollar amount, which reflects the difference between pre- and post-program earnings.

Although the definitions for the measures will be the same, states will continue to report performance outcomes for the WIA adult and dislocated worker programs separately. Additionally, states will continue to report outcomes for the credential measure and customer satisfaction.

Youth Performance Measures

The following three common performance measures apply to Youth programs:

• Placement in employment or education

• Degree or certificate attainment

• Literacy/numeracy gains measure

It is important to note that results for the above three measures are to be collected in addition to results for the current seven youth measures that are part of the WIA performance accountability system.

In PY 2005, ETA proposes to collect data necessary to calculate the placement in employment or education and degree or certificate attainment measures. ETA encourages states to collect and report data necessary to calculate the literacy/numeracy gains measure in PY 2005. States will be required to report the information on literacy/numeracy gains beginning in PY 2006. There are no new data elements required in order to report on the placement and employment or degree or certificate attainment measure.

In addition, a new data element, youth in foster care, has been added, which is consistent with ETA's new strategic vision for the delivery of youth services under WIA outlined in TEGL 3-04, ETA's New Strategic Vision for the Delivery of Youth Services Under the Workforce Investment Act (WIA).

Changes to Reporting Requirements

Revisions to the WIA reporting requirements are necessary to calculate the common performance measures. A few other revisions have been proposed to enhance ETA's management and oversight of the programs.

Changes to the WIA Quarterly Report include:

• Aggregate participant and exiter counts for adults who access self-service information and for adults who receive training services, individuals receiving services through National Emergency Grants (NEGs), and in-school and out-of-school youth participants.

• States will no longer be required to report on employer and job seeker customer satisfaction on a quarterly basis. This information will now be reported only on the WIA Annual Report.

• Additional reporting elements to capture outcomes for the youth common performance measures.

• Additional reporting elements to capture performance outcomes for participants served through NEGs.

• The reporting methodology for the WIA Quarterly Report now captures performance results for the most recent four quarter period; rather than only on a Program Year (PY) period (July-to-June).

Changes to the WIA Annual Progress Report include:

• A new section, Table H.1, to capture outcomes for the youth common measures.

• A revised Table M, Participation Levels, to report on adults who access self-services only. National Emergency Grant participant counts will not be included in the Annual Report.

• Table O includes a new section to capture outcomes for the youth common performance measures.

Changes to the WIASRD include:

• Revisions to definitions and specifications for capturing certain participant characteristics, such as equal opportunity data, eligible veterans' status, and employment status.

• Expansion of existing data collection on individuals who are homeless or offenders to the WIA adult program participants receiving intensive and training services.

• Addition of fields in the services section to capture receipt of disaster relief assistance, self-services, workforce information services, pre-vocational services, dates entered and completed training services, and type of training received.

• For youth, addition of a field that tracks whether the participant was enrolled in education, which is used to calculate the attainment of degree or certificate measure.

• Revisions to existing fields for the state to specify the method used to determine the individual's employment status in each of the first, second, third and fourth quarters after program exit.

• Change in definition in two fields for dislocated workers that tracked wages in the second and third quarters prior to the date of dislocation; these fields will now be used to track wages in the second and third quarters prior to participation to be able to calculate the six months earnings increase measure.

• Change in reporting instructions to indicate that states are required to report whether WIA participants were co-enrolled in the Trade Adjustment Assistance (TAA) or Wagner-Peyser Act programs.

II. Desired Focus of Comments

Currently, the Department is soliciting comments concerning the proposed revised information collection request (ICR) for Workforce Investment Act title IB programs in order to:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Revision.

Agency: Department of Labor, Employment and Training Administration.

Title: Workforce Investment Act (WIA) Management Information and Reporting System.

OMB Number: 1205-0420.

Affected Public: State, local, or tribal Governments.

Cite/Reference: Workforce Investment Act of 1998 (Pub. L. 105-220) sections 136, 172, 185, and 189.

Total Respondents: 53 states and territories.

Frequency: Quarterly and Annual.

Estimated Total Burden Hours:

Form/activity | Total respondents | Average annual hours/respondent | Total annual burden/hours
WIASRD record | 53 states | 11,415 | 604,982
Quarterly summary report | 53 states | 640 | 33,920
Annual summary report | 53 states | 400 | 21,200
Customer satisfaction | 53 states | 925 | 49,043
Total | 53 states | 13,380 | 709,145

Total Burden Cost (capital/startup): $1,791,400.

Total Burden Cost (operating/maintaining): $22,237,916.

Comments submitted in response to this notice will be summarized and/or included in the request for OMB approval of the information collection request; they will also become a matter of public record.

Signed in Washington, DC, on July 6, 2005.
Emily Stover DeRocco,
Assistant Secretary for Employment and Training.

[FR Doc. E5-3693 Filed 7-12-05; 8:45 am]

BILLING CODE 4510-30-P